DEPARTMENT OF JUSTICE

[AAG/A Order No. 016-2004]

Privacy Act of 1974; Notice of Removal of a System of Records

Pursuant to the provisions of the Privacy Act of 1974 (5 U.S.C. 552a), the Personnel Staff, Justice Management Division (JMD), Department of Justice (Justice), is removing a previously published Privacy Act system of records entitled “Department of Justice Staffing and Classification System, Justice/JMD-021.” Justice/JMD-021 was published in the Federal Register on October 30, 2001 (66 FR 54781).

This notice is unnecessary because the records are adequately covered by an Office of Personnel Management (OPM) Governmentwide (GOVT) Privacy Act notice entitled “Recruiting, Examining, and Placement Records, OPM/GOVT-5,” last published in the Federal Register on April 27, 2000 (65 FR 24732, 24741). We note that the General Records Schedule (GRS) is revised periodically, and that the GRS 1, covering these records, has been updated since OPM published its notice. The Department of Justice maintains these records in accordance with the current disposition schedule for GRS 1. The GRS may be viewed at http://www.archives.gov/records_management/records_schedules.html.

Therefore, the “Department of Justice Staffing and Classification System, Justice/JMD-021” is removed from the Department's compilation of Privacy Act systems of records, effective on the date of publication of this notice in the Federal Register.

Dated: November 24, 2004.
Paul R. Corts,
Assistant Attorney General for Administration.

[FR Doc. 04-26589 Filed 12-2-04; 8:45 am]

BILLING CODE 4410-CG-P